DEPARTMENT OF THE INTERIOR

Office of Natural Resources Revenue

[Docket No. ONRR-2011-0012]

Major Portion Prices and Due Date for Additional Royalty Payments on Indian Gas Production in Designated Areas Not Associated With an Index Zone

AGENCY: Office of Natural Resources Revenue, Interior.

ACTION: Notice of major portion prices for calendar year 2009.

SUMMARY: Final regulations for valuing gas produced from Indian leases, published August 10, 1999, require the Office of Natural Resources Revenue (ONRR) to determine major portion prices and notify industry by publishing the prices in the Federal Register. The regulations also require ONRR to publish a due date for industry to pay additional royalties based on the major portion prices. This notice provides major portion prices for the 12 months of calendar year 2009.

DATES: The due date to pay additional royalties based on the major portion prices is May 10, 2011.

FOR FURTHER INFORMATION CONTACT: John Barder, Manager, Team B, Western Audit and Compliance, ONRR; telephone (303) 231-3702; fax number (303) 231-3744; e-mail John.Barder@onrr.gov; or Mike Curry, Team B, Western Audit and Compliance, ONRR, telephone (303) 231-3741; fax (303) 231-3744; e-mail Michael.Curry@onrr.gov. Mailing address: Office of Natural Resources Revenue, Western Audit and Compliance Management, Team B, P.O. Box 25165, MS 62220B, Denver, Colorado 80225-0165.

SUPPLEMENTARY INFORMATION: On August 10, 1999, Minerals Management Service (now Office of Natural Resources Revenue) published a final rule titled “Amendments to Gas Valuation Regulations for Indian Leases” (64 FR 43506). The gas valuation regulations apply to all gas production from Indian (tribal or allotted) oil and gas leases, except leases on the Osage Indian Reservation.

The regulations require ONRR to publish major portion prices for each designated area not associated with an index zone for each production month, beginning January 2000, and a due date for additional royalty payments. See 30 CFR 1206.174(a)(4)(ii) (2010). (Note that ONRR regulations were moved from 30 CFR, chapter II, to 30 CFR, chapter XII (75 FR 61051), effective October 1, 2010.)

If additional royalties are due based on a published major portion price, the lessee must submit an amended Form MMS-2014, Report of Sales and Royalty Remittance, to ONRR by the due date. If you do not pay the additional royalties by the due date, ONRR will bill you late payment interest under 30 CFR 1218.54. The interest will accrue from the due date until ONRR receives your payment and an amended Form MMS-2014. The table below lists the major portion prices for all designated areas not associated with an index zone. The due date is 60 days after the publication date of this notice.

Gas Major Portion Prices ($/MMBtu) for Designated Areas Not Associated With an Index Zone
ONRR-designated areas | Jan 2009 | Feb 2009 | Mar 2009 | Apr 2009
Blackfeet Reservation | 3.57 | 3.53 | 2.70 | 2.41
Fort Belknap | 5.93 | 5.58 | 5.41 | 5.45
Fort Berthold | 4.94 | 3.88 | 2.94 | 2.77
Fort Peck Reservation | 5.96 | 4.83 | 4.23 | 3.93
Navajo Allotted Leases in the Navajo Reservation | 4.93 | 3.32 | 2.78 | 2.77
Rocky Boys Reservation | 4.25 | 2.81 | 2.32 | 2.02
Ute Tribal Leases in the Uintah and Ouray Reservation | 3.96 | 2.69 | 2.21 | 2.11

| May 2009 | Jun 2009 | Jul 2009 | Aug 2009
Blackfeet Reservation | 2.88 | 2.49 | 2.39 | 2.24
Fort Belknap | 5.35 | 5.28 | 5.38 | 5.39
Fort Berthold | 2.98 | 2.96 | 2.66 | 2.83
Fort Peck Reservation | 3.99 | 4.22 | 3.98 | 4.56
Navajo Allotted Leases in the Navajo Reservation | 2.78 | 2.80 | 3.15 | 3.39
Rocky Boys Reservation | 2.15 | 1.96 | 1.82 | 1.61
Ute Tribal Leases in the Uintah and Ouray Reservation | 2.19 | 2.27 | 2.43 | 2.69

| Sep 2009 | Oct 2009 | Nov 2009 | Dec 2009
Blackfeet Reservation | 2.26 | 3.81 | 3.16 | 4.93
Fort Belknap | 4.54 | 4.95 | 5.08 | 5.42
Fort Berthold | 2.68 | 4.20 | 4.13 | 4.68
Fort Peck Reservation | 4.17 | 5.98 | 6.49 | 6.22
Navajo Allotted Leases in the Navajo Reservation | 2.79 | 3.93 | 4.41 | 4.89
Rocky Boys Reservation | 1.96 | 2.95 | 2.84 | 3.90
Ute Tribal Leases in the Uintah and Ouray Reservation | 2.18 | 3.22 | 3.95 | 3.97

For information on how to report additional royalties due to major portion prices, please refer to our Dear Payor letter dated December 1, 1999, on the ONRR Web site at http://www.onrr.gov/FM/PDFDocs/991201.pdf.

Dated: March 7, 2011.
Gregory J. Gould,
Director, Office of Natural Resources Revenue.

[FR Doc. 2011-5591 Filed 3-10-11; 8:45 am]

BILLING CODE 4310-MR-P